NATIONAL SCIENCE FOUNDATION

Special Emphasis Panel in Integrative Activities; Notice of Meeting

In accordance with the Federal Advisory Committee Act (Pub. L. 92-463, as amended), the National Science Foundation announces the following meeting:

Name: Special Emphasis Panel in Integrative Activities (1373) Site Visit.

Date and Time: September 18, 2000, 7:30 pm—10:00 pm; September 19, 2000, 8:30 am—6:00 pm; September 20, 2000, 8:30 am—3:00 pm.

Place: 9/18/00: West Coast Plaza Hotel, Santa Cruz, California, 9/19/00: Baskin Engineering Building, Rm. 156, Univ. of California, Santa Cruz, CA, 9/20/00: Kerr Hall, Room 283, University of California, Santa Cruz, California.

Type of Meeting: Closed.

Contact Person: Dr. Morris L. Aizenman, Senior Science Associate, Directorate for Mathematical and Physical Sciences, Rm. 1005, National Science Foundation, 4201 Wilson Blvd., Arlington, VA 22230. Telephone: (703) 292-8807.

Purpose of Meeting: To provide advice and recommendations concerning further NSF support of the Center for Adaptive Optics.

Agenda: To review and evaluate the progress to date on all aspects of the Center for Adaptive Optics.

Reason for Closing: The project being reviewed includes information of a proprietary or confidential nature, including technical information; financial data and personal information concerning individuals associated with the annual report for continued support of this award for a second year. These matters are exempt under 5 U.S.C. 552b(c), (4) and (6) of the Government in the Sunshine Act.

Dated: August 9, 2000.
Karen J. York,
Committee Management Officer.

[FR Doc. 00-20524 Filed 8-11-00; 8:45 am]

BILLING CODE 7555-01-M